DEPARTMENT OF COMMERCE

National Oceanic and Atmospheric Administration

RIN 0648-XK35

New England Fishery Management Council; Public Meeting

AGENCY: National Marine Fisheries Service (NMFS), National Oceanic and Atmospheric Administration (NOAA), Commerce.

ACTION: Notice; public meeting.

SUMMARY: The New England Fishery Management Council's (Council) Herring Oversight Committee will meet to consider actions affecting New England fisheries in the exclusive economic zone (EEZ).

DATES: The meeting will be held on Tuesday, September 30, 2008 at 9:30 a.m. and Wednesday, October 1, 2008 at 9 a.m.

ADDRESSES: The meeting will be held at the Eastland Park Hotel, 157 High Street, Portland, ME 04101; telephone: (207) 775-5411; fax: (207) 775-1066.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Committee will continue development of recommendations for Council consideration in October regarding the specific management measures to be considered further in Amendment 4 to the Atlantic Herring Fishery Management Plan (FMP);

2. The agenda will include a discussion of management alternatives related to catch monitoring, including but not limited to: specific monitoring and reporting requirements for herring vessels and processors, observer coverage and at-sea monitoring, shoreside/dockside monitoring and sampling, vessel monitoring system (VMS) requirements, as well as other measures that were suggested for consideration during the scoping process;

3. Review and discuss preliminary analysis of river herring bycatch in the Atlantic herring fishery and comparison of portside and at-sea and observer bycatch information from the Atlantic herring fishery for selected species of interest from 2005-07; develop related recommendations as appropriate;

4. Review of information related to at-sea monitoring and observer coverage, which may include information about observer programs in other regions, industry-funded observer programs, applications for electronic monitoring, and cost comparisons; develop recommendations as appropriate;

5. Review and discuss proposed management measures to address herring bycatch concerns in the Atlantic mackerel fishery; develop recommendations as appropriate;

6. Address any other issues and develop recommendations related to Amendment 4 to the Herring FMP, possibly including annual catch limits (ACLs) and accountability measures (AMs), and individual and group quota allocation programs (i.e., IFQs and sectors;

7. Develop Herring Committee recommendations regarding cooperative research priorities for the 2010 research set-aside (RSA) program.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: September 8, 2008.
Tracey L. Thompson,
Acting Director, Office of Sustainable Fisheries, National Marine Fisheries Service.

[FR Doc. E8-21094 Filed 9-10-08; 8:45 am]

BILLING CODE 3510-22-S